DEPARTMENT OF COMMERCE

International Trade Administration

[A-570-900]

Diamond Sawblades and Parts Thereof From the People's Republic of China: Final Rescission of Antidumping Duty New Shipper Review

AGENCY: Import Administration, International Trade Administration, Department of Commerce.

SUMMARY: On March 9, 2011, the Department of Commerce (“Department”) issued its preliminary intent to rescind the new shipper review (“NSR”) of Pujiang Talent Diamond Tools Co., Ltd. (“PTDT”).¹ We gave interested parties an opportunity to comment on the Preliminary Intent to Rescind and, based upon our analysis of the comments and rebuttal comments received, we continue to determine that PTDT has failed to meet the minimum requirements for entitlement to an NSR.

¹ See Memorandum to the File, from James C. Doyle, Office Director, through Gary Taverman, Acting Deputy Assistant Secretary for Antidumping and Countervailing Duty Operations, Preliminary Intent to Rescind the New Shipper Review of Pujiang Talent Diamond Tools Co., Ltd., dated March 9, 2011 (“Preliminary Intent to Rescind”).

DATES: Effective Date: April 12, 2011.

FOR FURTHER INFORMATION CONTACT: Alan Ray, AD/CVD Operations, Office 9, Import Administration, International Trade Administration, U.S. Department of Commerce, 14th Street and Constitution Avenue, NW., Washington, DC 20230; telephone: (202) 482-5403.

SUPPLEMENTARY INFORMATION:

Case History

The Department received a timely request from PTDT, in what at the time appeared to be in accordance with 19 CFR 351.214(c), for an NSR of the antidumping duty order on diamond sawblades and parts thereof from the People's Republic of China (“PRC”). On June 28, 2010, the Department published the initiation of the NSR with a January 23, 2009, through April 30, 2010 period of review (“POR”).²

² See Diamond Sawblades and Parts Thereof from the People's Republic of China: Initiation of Antidumping Duty New Shipper Review, 75 FR 36632 (June 28, 2010).

On March 9, 2011, the Department issued its preliminary intent to rescind this NSR based on the sale of subject merchandise to the United States during the POR that had been produced by a company that had exported subject merchandise to the United States during the period of investigation (“POI”). See Preliminary Intent to Rescind.

On March 16, 2011, the Department received affirmative comments from PTDT, requesting that the Department not terminate the NSR. The Department received rebuttal comments from Petitioners, the Diamond Sawblades Manufacturers Coalition, on March 23, 2011, requesting that the Department terminate the NSR.

Scope of the Order

The products covered by the order are all finished circular sawblades, whether slotted or not, with a working part that is comprised of a diamond segment or segments, and parts thereof, regardless of specification or size, except as specifically excluded below. Within the scope of the order are semifinished diamond sawblades, including diamond sawblade cores and diamond sawblade segments. Diamond sawblade cores are circular steel plates, whether or not attached to non-steel plates, with slots. Diamond sawblade cores are manufactured principally, but not exclusively, from alloy steel. A diamond sawblade segment consists of a mixture of diamonds (whether natural or synthetic, and regardless of the quantity of diamonds) and metal powders (including, but not limited to, iron, cobalt, nickel, tungsten carbide) that are formed together into a solid shape (from generally, but not limited to, a heating and pressing process).

Sawblades with diamonds directly attached to the core with a resin or electroplated bond, which thereby do not contain a diamond segment, are not included within the scope of the order. Diamond sawblades and/or sawblade cores with a thickness of less than 0.025 inches, or with a thickness greater than 1.1 inches, are excluded from the scope of the order. Circular steel plates that have a cutting edge of non-diamond material, such as external teeth that protrude from the outer diameter of the plate, whether or not finished, are excluded from the scope of the order. Diamond sawblade cores with a Rockwell C hardness of less than 25 are excluded from the scope of the order. Diamond sawblades and/or diamond segment(s) with diamonds that predominantly have a mesh size number greater than 240 (such as 250 or 260) are excluded from the scope of the order. Merchandise subject to the order is typically imported under heading 8202.39.00.00 of the Harmonized Tariff Schedule of the United States (“HTSUS”'). When packaged together as a set for retail sale with an item that is separately classified under headings 8202 to 8205 of the HTSUS, diamond sawblades or parts thereof may be imported under heading 8206.00.00.00 of the HTSUS. The tariff classification is provided for convenience and customs purposes; however, the written description of the scope of the order is dispositive.

Summary of Comments Received ³

³ Certain business proprietary information (“BPI”) regarding the rescission of this NSR has been addressed in a public manner in this notice. For an explanation of the BPI relied upon, see Memorandum to the File, from Alan Ray, Case Analyst, Diamond Sawblades and Parts Thereof from the People's Republic of China: BPI Referenced in Final Rescission, dated concurrently with this notice.

On March 16, 2011, PTDT submitted comments regarding the Department's Preliminary Intent to Rescind. PTDT raised four main arguments. First, the purpose of the NSR is to determine if PTDT was dumping subject merchandise and then to calculate its antidumping duty margin. To rescind the NSR based on an isolated incident, representing such a low volume, places too much weight on the insignificant incident at issue. To rescind the review would now be a significant waste of already spent time and resources. Second, PTDT exported subject merchandise produced by another company to fill a customer's order, not in an effort to assist that company in circumventing payment of antidumping duties. Third, the Department should exercise its discretion and overlook this technical violation by applying the same kind of logic it employs when it extends the POR of an NSR so as to capture non-entered sales, or the same logic employed in the application of the de minimis provision for antidumping duty margins of less than 0.5 percent. Finally, PTDT argues that if the Department determines that rescission is appropriate, it should instead consider conducting this NSR concurrently with the first administrative review.

On March 23, 2011, Petitioners submitted rebuttal comments.⁴ With respect to PTDT's argument that the rescission would render significant time and effort a nullity, Petitioners note that this NSR was undertaken at PTDT's request and certification. PTDT's certification at the time of the request for the NSR did not state that PTDT had exported a low volume of subject merchandise produced by a company that exported during the POI. With respect to PTDT's argument that the Department should exercise its discretion and overlook this technical violation, Petitioners note that 19 CFR 351.214(b)(2)(ii) requires in cases where an exporter is not the producer of all merchandise it ships to the United States, a secondary certification that the supplier did not export subject merchandise to the United States during the POI. Petitioners further note that as the Department already stated, the regulations do not require the consideration of relative volumes sourced from a company that exported to the United States during the POI, with respect to the secondary certification requirement. Therefore, Petitioners argue, PTDT is not entitled to an NSR.

⁴ We note that the deadline for submitting rebuttal comments was March 21, 2011. However, according to Petitioners, although PTDT certified as to service, Petitioners still had not received a service copy of PTDT's submission as of March 23, 2011. Therefore, we find good cause under 19 CFR 351.302(b) to extend the time limit to submit rebuttal comments and, accordingly, accept Petitioners' submission. Moreover, because PTDT certified that it served Petitioners with its submission and subsequently submitted a letter confirming service, we have not rejected PTDT's submission, as requested by Petitioners.

Final Rescission of Review

As stated in the Preliminary Intent to Rescind, the Department has determined that PTDT does not meet the minimum requirements for establishing its qualification for an NSR under 19 CFR 351.214(b)(2)(ii)(B) because PTDT sold and exported subject merchandise to the United States during the POR that had been produced by a company that had exported to the United States during the POI. Because PTDT could not produce a certification that none of the merchandise it exported during the POR had been produced by a company that had exported during the POI, PTDT does not meet the minimum requirements for establishing qualification for an NSR. Furthermore, we note that the regulations provide a basis for extending the POR of NSRs ⁵ and applying the de minimis provision for margins of less than 0.5 percent,⁶ but there is no basis for overlooking the requirements set forth in 19 CFR 351.214(b)(2)(ii)(B). Accordingly, we are rescinding this NSR. As the Department is rescinding this NSR, we are not calculating a company-specific rate for PTDT, and PTDT will remain part of the PRC-wide entity subject to the PRC-wide rate.

⁵ See 19 CFR 351.214(f)(2)(ii).

⁶ See 19 CFR 351.106(c)(1).

Cash Deposit Requirements

The following cash deposit requirements will be effective upon publication of this final rescission of this NSR for all shipments of subject merchandise by PTDT, entered, or withdrawn from warehouse, for consumption on or after the publication date, as provided by section 751(a)(2)(C) of the Tariff Act of 1930, as amended (“Act”): (1) For subject merchandise produced and exported by PTDT, as part of the PRC-wide entity the cash deposit rate will be 164.09 percent; (2) for subject merchandise exported by PTDT, but not manufactured by PTDT, as part of the PRC-wide entity the cash deposit rate will continue to be the PRC-wide rate of 164.09 percent; and (3) for subject merchandise manufactured by PTDT, but exported by any party other than PTDT, the cash deposit rate will be the rate applicable to the exporter. These cash deposit requirements will remain in effect until further notice.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination in accordance with sections 751(a)(2)(B) and 777(i) of the Act, and 19 CFR 351.214(h) and 351.221(b)(5).

Dated: April 6, 2011.
Gary Taverman,
Acting Deputy Assistant Secretary for Antidumping and Countervailing Duty Operations.

[FR Doc. 2011-8742 Filed 4-11-11; 8:45 am]

BILLING CODE 3510-DS-P